DEPARTMENT OF DEFENSE

Department of the Army, Corps of Engineers

National Wetland Plant List

AGENCY: U.S. Army Corps of Engineers, DoD.

ACTION: Notice.

SUMMARY: The National Wetland Plant List (NWPL) is used to delineate wetlands for purposes of the Clean Water Act and the Wetland Conservation Provisions of the Food Security Act. Other applications of the list include wetland restoration, establishment, and enhancement projects. To update the NWPL, the U.S. Army Corps of Engineers (Corps), as part of an interagency effort with the U.S. Environmental Protection Agency (EPA), the U.S. Fish and Wildlife Service (FWS) and the U.S. Department of Agriculture, Natural Resources Conservation Service (NRCS), is announcing the availability of the draft National Wetland Plant List (NWPL) 2015 and its Web address to solicit public comments. The public will now be provided the opportunity to comment and vote on the proposed update of wetland indicator status ratings for 186 plants species in select Corps wetland regions.

DATES: Comments must be submitted on or before November 13, 2015.

ADDRESSES: U.S. Army Corps of Engineers, Attn: CECW-CO (Ms. Karen Mulligan), 441 G Street NW., Washington, DC 20314-1000.

FOR FURTHER INFORMATION CONTACT: Ms. Karen Mulligan, Headquarters, Operations and Regulatory Community of Practice, Washington, DC at 202-761-4664.

SUPPLEMENTARY INFORMATION: The U.S. Army Corps of Engineers (Corps) administers the National Wetland Plant List (NWPL) for the United States (U.S.) and its territories. Responsibility for the NWPL was transferred to the Corps from the U.S. Fish and Wildlife Service (FWS) in 2006. The Corps led interagency efforts to update the list in 2012, 2013, and 2014. The 2012 list contained 7,828 species, the 2013 update contained 7,937 species, and the 2014 update contained 8,061 species. Additions to these lists represent new records, range extensions, nomenclatural changes, and newly proposed species.

During the latest review process the ratings of two groups of plant species were reevaluated. The first consisted of a group of plants for which the public submitted rating changes on the NWPL Web site from November 10, 2014 to January 31, 2015. A total of 60 suggested rating changes for 42 species were submitted for eight Corps regions and two subregions. Twenty-two ratings and 14 species of these were not evaluated because (1) the proposed rating and the current rating were the same (nine species), (2) crops and epiphytic species were removed from the NWPL in the 2012 update (four species), and (3) insufficient information (one species). This leaves a total of 38 ratings for 28 species which were evaluated in seven Corps regions and two subregions. Of the 28 species evaluated, seven of these were suggested additions to the NWPL. The second group consisted of species with highly variable ratings, which were reexamined because they spanned more than three ratings categories, nationally (i.e., rated FACW in the Arid West and UPL in the Caribbean). This group contained 885 ratings of 169 species. Three species were included in both groups. As a result of the process, 923 ratings of 194 species, in ten Corps regions were reviewed by the regional and national panels and a draft NWPL 2015, containing 8,056 species, has been compiled.

In group one, 71% percent of the public requests resulted in potential changes to the NWPL (resulting in 27 rating changes for 21 species). The ratings of the remaining species are unchanged, including one proposed addition that was determined to be an upland plant. Six new plants were recommended to be added to the NWPL. In group two, 30% percent of the highly variable ratings resulted in proposed changes to the NWPL (267 proposed rating changes for 168 species). One species was removed from the NWPL because it does not grow in soil. Removal of ten additional species is proposed because they were determined to be rated UPL in every region in which they occur. The overall net change between the 2014 list and the proposed 2015 list would be five species (6 proposed additions and 11 proposed removals).

Together, the proposed changes based on public requests and highly variable ratings total 1% of the ratings (294) and 2% (186) of the species on the 2014 NWPL. These proposed changes are nearly an equal split between species that received wetter ratings and those that received drier ratings. The specific break-down of proposed changes are: 51 percent (151 ratings for 116 species) rated wetter and 49 percent (143 ratings for 111 species) rated drier. The number of species above (227) exceeds the number of species included in the update (186) because 41 species were included in each category (e.g., proposed to go drier in one region and wetter in another). Most of the rating changes are proposed in the Atlantic and Gulf Coastal Plain (55) and the Caribbean Islands (53) regions. The fewest changes are proposed in the Hawaii and Pacific Islands (12) and the Northcentral and Northeast (13) regions. Complete lists of changes by region, resources used to evaluate ratings and species, and newly submitted literature references are located at: http://wetland_plants.usace.army.mil/nwpl2015_update/proposed_changes/.

Indicator Status Ratings

On the NWPL, there are five categories of indicator status ratings, used to describe a plant's likelihood for occurrence in a wetland versus and upland: Obligate Wetland (OBL), Facultative Wetland (FACW), Facultative (FAC), Facultative Upland (FACU), and Obligate Upland (UPL). These rating categories are defined by the National Panel as follows: OBL—almost always is a hydrophyte, rarely in uplands; FACW—usually is a hydrophyte but occasionally found in uplands; FAC—commonly occurs as either a hydrophyte or non-hydrophyte; FACU—occasionally is a hydrophyte but usually occurs in uplands; UPL—rarely is a hydrophyte, almost always in uplands. These category definitions are qualitative descriptions that better reflect the qualitative supporting information, rather than numeric frequency ranges. The percentage frequency categories used in the older definitions are only used for testing problematic or contested species being recommended for indicator status changes. Plus and minus designations and wetland indicator designations such as No Indicator (NI), No Occurrence (NO), and No Agreement (NA) are no longer used on the NWPL. When assigning wetland indicator statuses, commenters should use the rating definitions described above and developed by the National Panel for updating the NWPL.

Wetlands are defined as those areas that are inundated or saturated by surface or ground water at a frequency and duration sufficient to support, and under normal circumstances do support, a prevalence of vegetation typically adapted for life in saturated soil conditions (33 CFR 328.3 and 40 CFR 230.3). Such wetlands are identified using the Corps 1987 Wetland Delineation Manual or relevant regional supplements, whichever is more recent. Wetlands are identified using the three factor approach. Because each species being evaluated occurs as part of a vegetation assemblage, examining the other species present may be useful in assessing hydrophytic vegetation.

Instructions for Providing Comments Online

Reviewers may consider the ecological information on the NWPL Web site, which includes prior information obtained by the FWS and others. Links to prior rating votes and maps of Corps wetland regions can be accessed from the NWPL homepage. To access regional voting records during the recent NWPL updates, click the “Voting History (Rounds/Algos)” link. To find ratings from the 1988 or 1996 Plant Lists, click “National Wetland Plant List”, “NWI 1988/1996 Lists” and then either “1996 National Summary” or “1988 National Summary (Reed 1988).” The Corps wetland regions and subregions are based on Land Resource Regions (LRRs) and Major Land Resource Areas (MLRAs) (http://soils.usda. gov/survey/geography/mlra/). To display regional maps click the “Wetland Regions and Rating Info” link on the NWPL homepage. To view subregional maps, click the link under the “NWPL Viewer Tool” heading in the upper left of the homepage. Once the viewer tool opens in a new window, click the “Custom Plant List,” “Geographic Area,” and “USACE subregions” links. The viewer tool is also used to access individual species pages. To find a species, type the scientific name into the search box in the upper right corner. Users are automatically redirected to the currently accepted name when a synonym is entered. Each species page includes scientific and common names, synonyms, and maps of distributions by county. Habitat descriptions from the literature can be displayed in the center of the page by clicking on “Species Detail,” “Center Page View,” and “FWS or CRREL Literature.”

The Corps is requesting assistance in the form of data, comments, literature references, or field experiences, to help clarify the status of the 186 species in the 2015 NWPL update. Comments may be made on one or more species in any of the wetland supplement regions or subregions where a rating change is proposed. A list of these species by region and the details of how their rating was evaluated by Regional and National Panel members can be viewed at the NWPL homepage, http://wetland_plants. usace.army.mil/ by clicking on the “Proposed FR NWPL2015 Update” and “Proposed Changes” links. Recently submitted literature references are also shown here. Comments on these proposed changes to the NWPL are being accepted at the same Web site. To add input, commenters should click on the “Federal Register Comments” link underneath the “Proposed Changes” link. Commenters will be redirected to an online form for submitting comments. Literature citations, experiential references, monitoring data, and other relevant reports may be submitted through this form. In all cases, the most useful comments are from specific knowledge or studies related to individual species. Commenters should use their regional botanical and ecological expertise, field observations, reviews of the most recent indicator status information, appropriate botanical literature, floras, herbarium specimens with notation of habitat and associated species, habit data, relevant studies, and historic list information. Guessing ratings is inappropriate. The commenter can also submit general comments on the 2015 NWPL update that are not related to a specific species. General comments can be submitted by clicking on the email contact link titled “Questions or Comments? Contact us!” on the NWPL homepage. All votes and comments will be compiled and sent to the National Panel for their consideration.

Future Actions

Future updates to the NWPL will occur biennially according to the following proposed procedures. A change in indicator status may be requested at any time at http://wetland_plants.usace.army.mil/ by clicking on the “Submit a NWPL Change Request” link and submitting the appropriate data. Data includes ecological data, literature reviews, testing descriptions, geographic data, and frequency and abundance data for the taxon in wetlands and uplands in the Corps wetland region or subregion for which the change is proposed. The regions and subregions are based on Land Resource Regions (LRRs) and Major Land Resource Areas (MLRAs) (http://soils.usda.gov/survey/geography/mlra/) and are shown for each wetland supplement region on the NWPL Web site. If the commenter believes that a wetland supplement region needs a subregion that has not yet been developed, the commenter should identify the MLRAs involved and provide a list of species from within that region that need their own wetland ratings.

Proposed rating changes will be compiled in January of odd years (i.e. 2017, 2019) and sent to the Regional Panels for input in February. The National Panel will assign wetland ratings to non-consensus species and will review all regional lists in April. The proposed changes will be compiled over the summer and published in the Federal Register for public comment in September. In October, public comments will be summarized and the National Panel will review and respond to comments. The final changes will be published in the Federal Register in December of odd years.

Dated: September 4, 2015.
Edward E. Belk, Jr.
Chief, Operations and Regulatory Division, Directorate of Civil Works.

[FR Doc. 2015-23031 Filed 9-11-15; 8:45 am]

BILLING CODE 3720-58-P